DEPARTMENT OF ENERGY

Federal Energy Regulatory Commission

[Project No. 637-090]

Public Utility District No. 1 Chelan County; Notice of Application for Amendment of License and Soliciting Comments, Motions To Intervene, and Protests

Take notice that the following hydroelectric application has been filed with the Commission and is available for public inspection:

a. Application Type: Non-Project Use of Project Lands and Waters.

b. Project No.: 637-090.

c. Date Filed: July 25, 2012.

d. Applicant: Public Utility District No. 1 Chelan County.

e. Name of Project: Lake Chelan Hydroelectric Project.

f. Location: The project is located on the Chelan River in Chelan County near the City of Chelan, Washington.

g. Filed Pursuant to: Federal Power Act 16 U.S.C. 791(a)-825(r).

h. Applicant Contact: Michelle Smith, Licensing and Compliance Manager, Public Utility District No. 1 of Chelan County, 327 North Wenatchee Ave., Wenatchee, Washington 98801. Phone: 888-663-8121, ext 4180. Email: michelle@chelanpud.org.

i. FERC Contact: Lorance Yates at 678-245-3084; email: lorance.yates@ferc.gov.

j. Deadline for filing comments, motions to intervene, and protests: is February 22, 2013.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 866-208-3676, or for TTY, 202-502-8659. Although the Commission strongly encourages electronic filing, documents may also be paper-filed. To paper-file, mail an original and seven copies to: Secretary, Federal Energy Regulatory Commission, 888 First Street NE., Washington, DC 20426. Please include the project number (P-637-090) on any comments, motions, or recommendations filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The applicant has filed a request for Commission approval to authorize the City of Chelan to expand an existing 66-slip marina (a.k.a. Lakeshore Marina) of the Don Morse Memorial Park to include a 9,652-square-foot expansion for an additional 63 new slips. The slip width will be 20-feet wide and will be added to the marina by extending three existing docks and installing two new docks. A total of approximately 115 steel piles will be installed for the new docks. Concrete panel walls associated with a new fixed breakwater system will be driven into the substrate. Approximately nine habitat logs would be situated waterward of the ordinary high watermark beneath the breakwater to enhance near-shore habitat. A swim float would be installed and anchored northwest of the marina complex at an existing swim area. All proposed work will be done in accordance with the various federal and state permits and approvals previously acquired for the proposal.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) Bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: January 23, 2013.
Kimberly D. Bose,
Secretary.

[FR Doc. 2013-01922 Filed 1-29-13; 8:45 am]

BILLING CODE 6717-01-P